DEPARTMENT OF THE INTERIOR

Bureau of Land Management

[ORS04000.63320000.DD0000; HAG11-0253]

Notice of Permanent Closure of Public Lands in Clackamas and Multnomah Counties, OR

AGENCY: Bureau of Land Management, Interior.

ACTION: Notice.

SUMMARY: Notice is hereby given that in response to the Little Sandy River Protection Act of 2001, a closure to public entry is in effect on public lands administered by the Bureau of Land Management (BLM) Salem District that are within the Bull Run Watershed Management Unit. Exempt from this order are BLM employees, authorized permittees, and other Federal, State, and county employees while on official business of their respective agencies, including associated vehicle use for administrative and emergency purposes.

DATES: This closure will be in effect from December 2, 2011 until further notice.

FOR FURTHER INFORMATION CONTACT: Cindy Enstrom, BLM Salem District, Cascades Resource Area Field Manager, 1717 Fabry Road, SE., Salem, Oregon 97306; e-mail: cindy_enstrom@blm.gov or 503-315-5969. Persons who use a telecommunications device for the deaf (TDD) may call the Federal Information Relay Service (FIRS) at 1-800-877-8339 to contact the above individuals during normal business hours. The FIRS is available 24 hours a day, 7 days a week, to leave a message or question with the above individuals. You will receive a reply during normal hours.

SUPPLEMENTARY INFORMATION: This permanent closure affects public lands in sections 13, 14, 15, and 16, T. 2 S., R. 6 E., Willamette Meridian, Oregon, and section 13, T. 1 S., R. 5 E., Willamette Meridian, Oregon; and within the boundary of the Bull Run Watershed Management Unit (BRWMU) in Clackamas and Multnomah Counties, Oregon. The public lands affected total approximately 658 acres.

The closure is in response to the Little Sandy River Protection Act of 2001 (Pub. L. 107-30) and provides for further water quality protection. The BRWMU is the main source of drinking water for the city of Portland, Oregon. The majority of the BRWMU is under the joint management of the U.S. Forest Service, Mount Hood National Forest, and the Portland Water Bureau. Federal regulations and City of Portland ordinances prohibit public entry onto other portions of the BRWMU. This rule will provide consistency between public lands and surrounding lands managed by other agencies.

Under the authority of Section 303(a) of the Federal Land Policy and Management Act of 1976 (43 U.S.C. 1733(a)), 43 CFR 8360.0-7, and 43 CFR 8364.1, the BLM will enforce the following rule:

You must not enter public lands within the Bull Run Watershed Management Unit by any means of travel including, but not limited to, vehicles, off-highway vehicles, bicycles, and foot.

The following persons are exempt from this order: Federal, State, and local officers and employees in the performance of their official duties; Federal, State, and local government permittees and contractors conducting authorized activities; members of organized rescue or fire-fighting forces in the performance of their official duties; and persons with written authorization from the BLM.

Any person who violates this permanent public closure may be tried before a United States Magistrate and fined no more than $1,000, imprisoned for no more than 12 months, or both. Such violations may also be subject to the enhanced fines provided for by 18 U.S.C. 3571.

The BLM will post closure signs at main entry points to this area and take steps to install physical barriers at the BRWMU boundary. The affected lands will be represented as closed to public entry in maps, brochures, and other forms of visitor information. Maps of the affected area and other documents associated with this closure are available at the Salem District Office, 1717 Fabry Rd., SE., Salem, Oregon 97306. These documents include the Little Sandy River Protection Act and the Sandy River Basin Integrated Management Plan.

Definitions: (a) “Public lands” means any lands or interests in lands owned by the United States and administered by the Secretary of the Interior through the Bureau of Land Management; (b) “Administrative purposes” means any use by an employee or designated representative of the Federal government or one of its agents or contractors in the course of their employment or representation; and (c) “Emergency purposes” means actions related to fire, rescue, or law enforcement activities.

Authority: 43 CFR 8364.1.

Cindy Enstrom,
Cascades Resource Area Field Manager, BLM Salem District.

[FR Doc. 2011-22531 Filed 9-1-11; 8:45 am]

BILLING CODE 4310-33-P